DEPARTMENT OF ENERGY

Federal Energy Regulatory Commission

[Docket No. CP01-64-001]

Trailblazer Pipeline Company; Notice of Compliance Filing

May 1, 2002.

Take notice that on March 8, 2002, Trailblazer Pipeline Company (Trailblazer) tendered for filing to be a part of its FERC Gas Tariff, Third Revised Volume No. 1, certain tariff sheets to be effective April 20, 2002.

Trailblazer states that the filing is submitted pursuant to the Federal Energy Regulatory Commission's (Commission) order issued May 18, 2001, in Docket No. CP01-64-000, which directed Trailblazer to file tariff sheets implementing its expansion project fuel retention percentage and tracking mechanism, incremental recourse rates, and either its negotiated expansion contracts of tariff sheets between thirty (30) and sixty (60) days before the in-service date of the new facilities.

Trailblazer requests any waivers which may be required to permit the tariff sheets submitted to become effective on April 20, 2002.

Trailblazer states that copies of the filing have been mailed to interested state regulatory agencies and all parties set out on the Commission's official service list in Docket No. CP01-64.

Any person desiring to be heard or to protest said filing should file a motion to intervene or a protest with the Federal Energy Regulatory Commission, 888 First Street, NE., Washington, DC 20426, in accordance with section 385.214 and Section 385.211 of the Commission's Rules and Regulations. All such protests must be filed by May 13, 2002. Protests will be considered by the Commission in determining the appropriate action to be taken, but will not serve to make protestants parties to the proceedings. Any person wishing to become a party must file a motion to intervene. Copies of this filing are on file with the Commission and are available for public inspection. This filing may be viewed on the Commission's web site at http://www.ferc.gov using the “RIMS” link, select “Docket #” and follow the instructions (202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-11260 Filed 5-6-02; 8:45 am]

BILLING CODE 6717-01-P